DEPARTMENT OF HEALTH AND HUMAN SERVICES

Centers for Disease Control and Prevention

[30Day-17-17AW]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessment of Targeted Training and Technical Assistance (TTA) Efforts on the Implementation of Comprehensive Cancer Control—New—National Center for Chronic Disease Prevention and Health Promotion (NCCDPHP), Centers for Disease Control and Prevention (CDC).

Background and Brief Description

The Centers for Disease Control and Prevention's (CDC) National Comprehensive Cancer Control Program (NCCCP) has been a primary funder for state and community-based cancer control interventions since its inception in the late 1990s. In addition, CDC's Office on Smoking and Health (OSH) also has worked to build state health department infrastructure and capacity to conduct coordinated comprehensive tobacco prevention and control activities which contribute to cancer health outcomes through the provision of funding to state health departments and local partners through the Nation State Based Tobacco Control Program (NSTB).

In striving to build capacity and maximize the impact of CDC's funded programs, CDC has focused on developing and implementing innovative programs to enhance the training and technical assistance (TTA) delivered to NCCCP and NSBT grantee programs. CDC funds 10 organizations under two cooperative agreements: The Consortium of National Networks to Impact Populations Experiencing Tobacco-Related and Cancer Health Disparities (DP13-1314), and National Support to Enhance Implementation of Comprehensive Cancer Control Activities (DP13-1315). Under these cooperative agreements, DP13-1314 and DP13-1315 awardees provide TTA to state NCCCP and NSBT grantees to support local implementation of high-impact public health strategies. Using two different TTA models, DP13-1314 and DP13-1315 aim to impact both short- and long-term outcomes on the awardee, NCCCP program, and population levels.

CDC proposes to conduct an assessment of the DP13-1314 and DP13-1315 cooperative agreements to: (1) Increase CDC's understanding of the TTA provided to NCCCP and NSTB grantees across both cooperative agreements, (2) help identify the extent to which core elements of the TTA were administered, and (3) determine the elements of TTA across both cooperative agreements that show promise for improving NCCCP and NSTB capacity. There are no other data collection efforts currently underway to assess implementation of the two TTA models or their perceived effectiveness.

This information collection request will involve three complementary data collection efforts: (1) Case studies of DP13-1314 and DP13-1315 awardees (consisting of interviews with DP13-1314 and DP13-1315 program managers/directors, evaluators, and partners); (2) a cross-sectional web-based survey administered to NCCCP and NSBT program directors, coalition members, and partners; and (3) in-depth interviews with selected NCCCP and NSBT program directors, staff, coalition members, and partners who received a high volume of TTA from one or more of the DP13-1314 and DP13-1315 awardees. The case studies will be used to explore how DP13-1314 and DP13-1315 awardees are implementing their respective cooperative agreements and administering TTA to NCCCP and NSBT grantees; the factors that affect the implementation of specific TTA components; and the extent to which each cooperative agreement was able to achieve planned short-term outcomes. The Web-based survey will inform CDC's understanding of the reach of DP13-1314 and DP13-1315 TTA efforts; elicit information from NCCCP and/or NSBT programs and coalitions about the TTA received, including type, dosage, frequency and format; and assess the perceptions of the effectiveness of the TTA provided in building capacity to achieve intended outcomes. The in-depth interviews with “high-volume” TTA users will facilitate an in-depth exploration of the type and quality of TTA activities received; perceived quality of TTA and its contributions to NCCCP and NSBT grantee program implementation, and achievement of CDC priorities and goals.

CDC will use findings from the assessment to inform development of future TTA efforts that utilize the core elements across the two models to more effectively and efficiently support NCCCP's partner organizations.

OMB approval is requested for 2 years. Participation is voluntary and respondents will not receive incentives for participation. There are no costs to respondents other than their time. The total estimated annualized burden hours are 231.

Estimated Annualized Burden Hours
Type of respondents | Form name | Number of respondents | Number of responses per respondent | Average burden per response (in hours)
DP13-1314 and DP13-1315 Awardee Organizations | Worksheet for Identifying Case Study Interviewees | 5 | 1 | 1
DP13-1314 Program Directors/Managers | Case Study Interview Guide for DP13-1314 Program Directors/Managers | 4 | 1 | 1.5
| Case Study Follow-Up Interview Guide for DP13-1314 Program Directors/Managers | 4 | 1 | 1
DP13-1315 Directors/Managers | Case Study Interview Guide for DP1-1315 Program Directors/Managers | 1 | 1 | 1.5
| Case Study Follow-Up Interview Guide for DP1-1315 Program Directors/Managers | 1 | 1 | 1
DP13-1314 Evaluators | Case Study Interview Guide for DP1-1314 Evaluators | 4 | 1 | 1
DP13-1315 Evaluators | Case Study Interview Guide for DP1-1315 Evaluators | 1 | 1 | 1
DP13-1314 Partners | Case Study Interview Guide for DP1-1314 Partners | 8 | 1 | 1
DP13-1315 Partners | Case Study Interview Guide for DP1-1315 Partners | 2 | 1 | 1
NCCCP and NSBT Program Directors, Staff, Coalition Members, and Partners | Web-based survey | 780 | 1 | 15/60
NCCCP and NSBT Program Directors, Staff, Coalition Members, and Partners | In-Depth Interview Guide | 5 | 1 | 0.5

Leroy A. Richardson,
Chief, Information Collection Review Office, Office of Scientific Integrity, Office of the Associate Director for Science, Office of the Director, Centers for Disease Control and Prevention.

[FR Doc. 2017-08705 Filed 4-28-17; 8:45 am]

BILLING CODE 4163-18-P